ENVIRONMENTAL PROTECTION AGENCY

[FRL-8790-3]

Science Advisory Board Staff Office; Request for Nominations of Experts To Provide Advice on Mold Issues in Indoor Environments

AGENCY: Environmental Protection Agency (EPA).

ACTION: Notice request for nominations.

SUMMARY: The EPA Science Advisory Board (SAB) Staff Office is requesting nominations to form an Ad Hoc panel, under the auspices of the SAB, to provide advice to the EPA on mold issues in indoor environments.

DATES: Nominations should be submitted by April 28, 2009 per the instructions below.

FOR FURTHER INFORMATION CONTACT: Any member of the public wishing further information regarding this Request for Nominations may contact Dr. K. Jack Kooyoomjian, Designated Federal Officer (DFO), via telephone/voice mail at (202) 343-9984; via e-mail at kooyoomjian.jack@epa.gov or at the U.S. EPA Science Advisory Board (1400F), 1200 Pennsylvania Ave., NW., Washington, DC 20460. General information about the SAB can be found in the SAB Web site at http://www.epa.gov/sab. The EPA technical contact for this review is Dr. Mary E. Clark, Assistant Director for Science, Office of Radiation and Indoor Air (ORIA), who may be contacted via telephone at (202) 343-9348 or by e-mail at clark.marye@epa.gov.

SUPPLEMENTARY INFORMATION: Background: Physical inspection for water damage and mold is a key part of the Office of Radiation and Indoor Air's (ORIA's) mold remediation guidance (http://www.epa.gov/mold/). EPA's current indoor air guidance does not recommend routine sampling for mold. Rather, guidance for mitigating indoor mold states that if mold growth occurs in a building, the water problem must be fixed and the mold growth removed. The Agency's Office of Research and Development (ORD) has developed a tool, the Environmental Relative Moldiness Index (ERMI) (http://www.epa.gov/microbes/moldtech.htm) to screen indoor environments. The ERMI relies on collection of a dust sample from the building in question. Deoxyribonucleic Acid (DNA) from mold in the dust is analyzed using a mold-specific quantitative Polymerase Chain Reaction (PCR) methodology. The analytical results are then compared to the ERMI, which generates a numeric score that predicts whether the tested space is likely to have higher or lower mold levels than outdoors, and by extension, predicts whether occupants are more or less likely to be exposed to mold. The analysis also indicates some of the types of mold present. The ERMI may also have utility in screening buildings where mold is suspected, but not visible.

ORD and ORIA view the ERMI as a prototype research tool at the current state of development. However, the Agency has received questions from the general public, other government agencies and non-governmental organizations concerning mold issues. There have also been requests for guidance on the broader use of the ERMI and its relationship to existing EPA mold sampling, as well as other mold issues. Since the ERMI has not been validated for such applications, the Agency is interested in clarifying the role and use of ERMI in mold remediation guidance, especially in the aftermath of water-related emergencies, such as Hurricanes Katrina and Rita. The Agency has requested that the SAB provide advice on the technical applicability and limitations of the ERMI; its utility for identifying natural background and mold contaminated environments, identifying mold species and associated mycotoxins; the need for guidance on the use of ERMI for emergency response situations (such as flooding); the pros and cons of ERMI; and other approaches that might be employed.

Request for Nominations: The SAB Staff Office is requesting nominations to form an Ad Hoc panel to provide advice to the Agency on mold issues as described above. The SAB was established by 42 U.S.C. 4365 to provide independent scientific and technical advice, consultation, and recommendations to the EPA Administrator on the technical basis for Agency positions and regulations. The Ad Hoc panel will provide advice through the chartered SAB, and will comply with the provisions of the Federal Advisory Committee Act (FACA) and all appropriate SAB procedural policies.

To address EPA's need for scientific and technical advice, the SAB Staff Office is seeking individuals with nationally recognized expertise, experience, knowledge, and field experience in the following disciplinary areas with a specific focus on mold growth, exposure, effects, biodeterioration, building evaluation, and mold remediation in indoor environments:

(1) Epidemiology related to molds, fungi and bacteria; Microbiology related to molds, fungi and bacteria;

(2) Toxicology of molds, fungi and bacteria;

(3) Risk assessment related to indoor air quality, dampness and mold producing and mold biodeterioration conditions;

(4) Measurement statistics, bio-statistics, modeling and analysis of data on mold remediation;

(5) Emergency response and remediation associated with environmental microbiology and bio-aerosols;

(6) Environmental medicine, industrial hygiene, public health, or other medical fields related to mold exposures; and

(7) Risk perception and risk communication.

Process and Deadline for Submitting Nominations: Any interested person or organization may nominate qualified individuals to this Ad Hoc panel in the areas of expertise described above. Nominations should be submitted in electronic format through the SAB Web site at the following URL http://www.epa.gov/sab; or directly via the Form for Nominating Individuals to Panels of the EPA Science Advisory Board link found at URL: http://www.epa.gov/sab/panels/paneltopics.html. Please follow the instructions for submitting nominations carefully. To be considered, nominations should include all of the information required on the associated forms. Anyone unable to submit nominations using the electronic form and who has any questions concerning the nomination process may contact Dr. K. Jack Kooyoomjian, DFO, as indicated above in this notice. Nominations should be submitted in time to arrive no later than April 28, 2009.

For nominees to be considered, please include: Contact information; a curriculum vitae; a biosketch of no more than two paragraphs (containing information on the nominee's current position, educational background, areas of expertise and research activities, service on other advisory committees and professional societies; the candidate's special expertise related to the panel being formed; and sources of recent grant and/or contract support).

The EPA SAB Staff Office will acknowledge receipt of nominations. The names and biosketches of qualified nominees identified by respondents to the Federal Register notice and additional experts identified by the SAB Staff will be posted on the SAB Web site at http://www.epa.gov/sab. Public comments on this “Short List” of candidates will be accepted for 21 calendar days. The public will be requested to provide relevant information or other documentation on nominees that the SAB Staff Office should consider in evaluating candidates.

For the EPA SAB Staff Office, a balanced subcommittee or review panel includes candidates who possess the necessary domains of knowledge, the relevant scientific perspectives (which, among other factors, can be influenced by work history and affiliation), and the collective breadth of experience to adequately address the charge. In establishing the final Ad Hoc panel, the SAB Staff Office will consider public comments on the “Short List” of candidates, information provided by the candidates themselves, and background information independently gathered by the SAB Staff Office. Specific criteria to be used for panel membership include: (a) Scientific and/or technical expertise, knowledge, and experience (primary factors); (b) availability and willingness to serve; (c) absence of financial conflicts of interest; (d) absence of an appearance of a lack of impartiality; and (e) skills working in committees, subcommittees and advisory panels; and, for the panel as a whole, (f) diversity of, and balance among, scientific expertise, viewpoints, etc.

The SAB Staff Office's evaluation of an absence of financial conflicts of interest will include a review of the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web site at http://www.epa.gov/sab/pdf/ec02010.pdf.

Dated: March 31, 2009.
Anthony F. Maciorowski,
Deputy Director, EPA Science Advisory Board Staff Office.

[FR Doc. E9-7829 Filed 4-6-09; 8:45 am]

BILLING CODE 6560-50-P